DEPARTMENT OF JUSTICE

Office of Justice Programs; Agency Information Collection Activities: Proposed Collection; Comments Requested

ACTION: 60-Day Notice of Information Collection Under Review: Traffic Stop Data Collection Policies for State Police, 2004.

The Department of Justice (DOJ), Office of Justice Programs (OJP) has submitted the following information collection request to the Office of Management and Budget (OMB) for review and approval in accordance with the Paperwork Reduction Act of 1995. The proposed information collection is published to obtain comments from the public and affected agencies. Comments are encouraged and will be accepted for “sixty days” until May 28, 2004. This process is conducted in accordance with 5 CFR 1320.10.

If you have comments especially on the estimated public burden or associated response time, suggestions, or need a copy of the proposed information collection instrument with instructions or additional information, please contact Lynn Bauer by email bauerl@ojp.usdoj.gov.

Written comments and suggestions from the public and affected agencies concerning the proposed collection of information are encouraged. Your comments should address one or more of the following four points:

• Evaluate whether the proposed collection of information is necessary for the proper performance of the functions of the agency, including whether the information will have practical utility;

• Evaluate the accuracy of the agencies estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Overview of this information collection:

(1) Type of Information Collection: Reinstatement, with change, of a previously approved collection for which approval has expired.

(2) Title of the Form/Collection: Traffic Stop Data Collection Policies for State Police, 2004.

(3) Agency form number, if any, and the applicable component of the Department of Justice sponsoring the collection: Form Number: SP-1, Office of Justice Programs.

(4) Affected public who will be asked or required to respond, as well as a brief abstract: Primary: State Government. Other: none. 42 U.S.C. 3711, et. Seq. authorizes the Department of Justice to collect and analyze statistical information concerning crime, juvenile delinquency, and the operation of the criminal justice system and related aspects of the civil justice system and to support the development of information and statistical systems at the Federal, State, and local levels.

(5) An estimate of the total number of respondents and the amount of time estimated for an average respondent to respond: It is estimated that 49 respondents will complete each form within 45 minutes.

(6) An estimate of the total public burden (in hours) associated with the collection: There are an estimated 38 total annual burden hours associated with this collection.

If additional information is required contact: Brenda E. Dyer, Deputy Clearance Officer, United States Department of Justice, Justice Management Division, Policy and Planning Staff, Patrick Henry Building, Suite 1600, 601 D Street NW., Washington, DC 20530.

Dated: March 19, 2004.
Brenda E. Dyer,
Department Deputy Clearance Officer, PRA, Department of Justice.

[FR Doc. 04-6949 Filed 3-26-04; 8:45 am]

BILLING CODE 4410-18-P